FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 001941-003.

Title: Baltimore Marine Terminal Association.

Parties: Ports Baltimore, Inc.; Maryland International Terminals, Inc.; Mid-Atlantic Terminal LLC; Ceres Marine terminals, Inc.; Tartan Terminals, Inc. and Ports America Chesapeake, Inc.

Filing Party: JoAnne Zawitoski, Esq.; Baltimore Marine Terminal Association; 25 South Charles Street, Suite 1400, Baltimore, MD 21201.

Synopsis: The amendment restates the agreement and identifies the current members of the BTMA.

Agreement No.: 011435-014.

Title: APL/HLAG Space Charter Agreement.

Parties: American President Lines, Ltd.; APL Co. Pte Ltd.; and Hapag-Lloyd AG.

Filing Party: Wayne R. Rohde, Esq.; Cozen O'Connor; 1627 I Street, NW., Suite 1100, Washington, DC 20006.

Synopsis: The amendment updates the corporate address for APL.

Agreement No.: 011741-015.

Title: U.S. Pacific Coast-Oceania Agreement.

Parties: ANL Singapore PTE Ltd.; A.P. Moller-Maersk A/S; CMA CGM S.A.; Hamburg-Süd; and Hapag-Lloyd AG.

Filing Party: Wayne R. Rohde, Esq.; Cozen O'Connor; 1627 I Street, NW., Suite 1100, Washington, DC 20006.

Synopsis: The amendment increases the amount of space CMA CGM is allotted from Pacific Northwest ports.

Agreement No.: 012077-001.

Title: APL/Maersk Line Reciprocal Space Charter Agreement.

Parties: American President Lines, Ltd.; APL Co. Pte, Ltd.; and A.P. Moller Maersk A/S.

Filing Party: Eric. C. Jeffrey, Esq.; Counsel for APL; Goodwin Procter LLP; 901 New York Avenue, NW., Washington, DC 20001.

Synopsis: The amendment updates the corporate addresses of American President Lines, Ltd. and APL Co. Pte Ltd.

Agreement No.: 012108.

Title: The World Liner Data Agreement.

Parties: A.P. Moller-Maersk A/S; CMA CGM S.A.; Compania Chilena de Navegacion Interoceanica S.A.; Hamburg-Sud; Hapag-Lloyd AG; Orient Overseas Container Line Ltd.; and United Arab Shipping Company S.A.G.

Filing Party: Wayne Rohde, Esq.; Cozen O'Connor; 627 I Street, NW., Suite 1100, Washington, DC 20006.

Synopsis: The pending agreement has been changed to include CCNI and Orient Overseas Container Line Ltd as parties to the Agreement.

Agreement No.: 201209.

Title: Marine Terminal Lease and Operating Agreement Between Broward County and Seafreight Agencies (USA), Inc.

Parties: Broward County and Seafreight Agencies (USA), Inc.

Filing Party: Candace J. Running; Broward County Board of County Commissioners; Office of the County Attorney; 1850 Eller Drive, Suite 502, Fort Lauderdale, FL 33316.

Synopsis: The agreement provides for the lease and operation of terminal facilities at Port Everglades in Broward County, Florida.

By Order of the Federal Maritime Commission.
Dated: October 29, 2010.
Karen V. Gregory,
Secretary.

[FR Doc. 2010-27777 Filed 11-2-10; 8:45 am]

BILLING CODE P